DEPARTMENT OF THE TREASURY

Internal Revenue Service

Notice of Intent To Re-Establish the Information Reporting Program Advisory Committee

AGENCY: Internal Revenue Service (IRS), Treasury.

ACTION: Notice.

SUMMARY: The Internal Revenue Service intends to re-establish the Information Reporting Program Advisory Committee for a period of one year. The final conference report for the Omnibus Budget Reconciliation Act of 1989 (H.R. 3299) recommended that the Internal Revenue Service establish a federal advisory committee to discuss improvement to the information reporting program (IRP). The first IRPAC was created in 1991. The IRPAC is the only advisory committee designed to focus on information reporting issues. IRPAC members usually come from the tax professional community, small and large businesses, financial institutions, state tax administration agencies, colleges and universities, and securities and payroll organizations. Specific subject matter and technical expertise in information reporting administration issues, such as knowledge and expertise in producing and using information reporting returns, are generally required to accomplish the tasks of the IRPAC.

FOR FURTHER INFORMATION CONTACT: Ms. Tonjua Menefee, National Public Liaison, CL:NPL: BSRM, Rm. 7559, 1111 Constitution Avenue NW, Washington, DC 20224.

Phone: 202-317-6851 (not a toll-free number).

Email address: PublicLiaison@irs.gov.

SUPPLEMENTARY INFORMATION: Notice is hereby given pursuant to section 10(a)(2) of the Federal Advisory Committee Act, 5 U.S.C. App. (1988), that IRS intends to re-establish the Information Reporting Program Advisory Committee (IRPAC) January 5, 2018.

Should you wish to contact IRPAC, please call 202-317-6851, or write to: Internal Revenue Service, Office of National Public Liaison, CL:NPL:SRM, Room 7559, 1111 Constitution Avenue NW, Washington, DC 20224 or email: PublicLiaison@irs.gov.

Dated: December 15, 2017.
Darlene Frank,
Designated Federal Official, Branch Chief, National Public Liaison.

[FR Doc. 2017-27457 Filed 12-20-17; 8:45 am]

BILLING CODE 4830-01-P